DEPARTMENT OF THE INTERIOR

Bureau of Indian Affairs

[256A2100DD/AAKC001030/A0A501010.999900; OMB Control Number 1035-0005]

Agency Information Collection Activities; Submission to the Office of Management and Budget for Review and Approval; Tribal Trust Evaluations

AGENCY: Bureau of Trust Funds Administration, Interior.

ACTION: Notice of information collection; request for comment.

SUMMARY: In accordance with the Paperwork Reduction Act of 1995, we, the Bureau of Trust Funds Administration (BTFA) are proposing to renew an information collection.

DATES: Interested persons are invited to submit comments on or before February 13, 2025.

ADDRESSES: Written comments and recommendations for the proposed information collection request (ICR) should be sent within 30 days of publication of this notice to the Office of Information and Regulatory Affairs (OIRA) through https://www.reginfo.gov/public/do/PRA/icrPublicCommentRequest?ref_nbr=202406-1035-001 or by visiting https://www.reginfo.gov/public/do/PRAMain and selecting “Currently under Review—Open for Public Comments” and then scrolling down to the “Department of the Interior.”

FOR FURTHER INFORMATION CONTACT: To request additional information about this ICR, contact Theresa Powless, Bureau of Trust Funds Administrative, Program Specialist, 4400 Masthead Street NE, Albuquerque, NM 87109; or by email to Theresa_Powless@btfa.gov, or by telephone at (505) 418-2541. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/Forward?SearchTarget=PRA&textfield=1035-0005.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 6, 2024 (89 FR 88057). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: As codified in 25 U.S.C. 4001 et seq., The American Indian Trust Fund Management Reform Act of 1994 (the Reform Act) makes provisions for the Bureau of Trust Funds Administration (formerly known as the Office of the Special Trustee for American Indians) to administer trust fund accounts for individuals and Tribes. This collection of information is required to fulfill the mission of the Bureau of Trust Funds Administration (BTFA) and the Secretary of the Interior's responsibility for evaluating all Public Law 93-638 Compact Tribes administering or managing trust programs, functions, services, and/or activities on behalf of the Secretary of the Interior. This responsibility is federally mandated pursuant to 25 U.S.C. 458cc(d) and 25 CFR 1000.350. BTFA is responsible under 25 U.S.C. 4041 for overseeing the implementation of trust reforms, trust accounting, and coordination of trust policies intra-bureau-wide related to the management of Indian trust funds and assets. The BTFA, Division of Trust Evaluation and Review (DTER), formerly the Office of Trust Audit and Review (OTRA), is responsible for conducting tribal trust evaluations on Tribes performing Indian trust programs and functions pursuant to a Tribal Self-Governance Compact or Annual Funding Agreement. In addition, DTER has a congressional mandate to conduct Annual Tribal Trust Evaluations for Tribes that compact trust programs, functions, services, and/or activities under Public Law 93-638 Self-Governance Compacts on behalf of the Secretary of the Interior. This authority is contained in 25 U.S.C. 5363(d)(1) & (2) and the enabling regulations in 25 CFR 1000.350. DTER currently collects Indian trust data and documentation from Tribes in fulfillment of performing the Tribal trust evaluations for compacted Tribes. These evaluations are enabled by performing desk reviews (via email electronic questionnaires), and on-site visits to Tribes.

Under 25 CFR 1000.355, the Secretary's designated representative will conduct trust evaluations for each self-governance Tribe that has an annual funding agreement. The end result is the issuance of a report, which is required by 25 CFR 1000.365. Currently, DTER conducts either desk reviews and/or on-site reviews of trust operations where a Tribe has compacted a trust program. During that review, under current methodology, interviews are conducted and documents are requested. A draft report is written and provided to the Tribe for comment where applicable. Comments received back are incorporated into the report, and a final report is issued to the Tribe.

Title of Collection: Tribal Trust Evaluations for Public Law 93-639 Compact Tribes.

OMB Control Number: 1035-0005.

Form Number: None.

Type of Review: Extension of a currently approved collection.

Respondents/Affected Public: Tribes that have an annual funding agreement in place to compact Indian trust programs.

Total Estimated Number of Annual Respondents: 64 Tribes. Federal agencies are exempt from the PRA and are not included in the total annual respondents/responses/burden hour estimates.

Total Estimated Number of Annual Responses: 1,024.

Estimated Completion Time per Response: 2 hours for reporting and 1 hour for recordkeeping.

Total Estimated Number of Annual Burden Hours: 3,072.

Respondent's Obligation: Mandatory.

Frequency of Collection: Once per fiscal or calendar year (year the respective Tribe operates under).

Total Estimated Annual Nonhour Burden Cost: None.

Authority

An agency may not conduct or sponsor and a person is not required to respond to a collection of information unless it displays a currently valid OMB control number. The authority for this action is the Paperwork Reduction Act of 1995 (44 U.S.C. 3501 et seq.).

Steven Mullen,
Information Collection Clearance Officer, Office of Regulatory Affairs and Collaborative Action—Indian Affairs.

[FR Doc. 2025-00631 Filed 1-13-25; 8:45 am]

BILLING CODE 4337-15-P